DEPARTMENT OF AGRICULTURE

Submission for OMB Review; Comments Requested

May 13, 2021.

The Department of Agriculture will submit the following information collection requirement(s) to OMB for review and clearance under the Paperwork Reduction Act of 1995, Public Law 104-13 on or after the date of publication of this notice. Comments are requested regarding: Whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology. Comments regarding these information collections are best assured of having their full effect if received by June 18, 2021. Written comments and recommendations for the proposed information collection should be submitted within 30 days of the publication of this notice on the following website www.reginfo.gov/public/do/PRAMain. Find this particular information collection by selecting “Currently under 30-day Review—Open for Public Comments” or by using the search function

An agency may not conduct or sponsor a collection of information unless the collection of information displays a currently valid OMB control number and the agency informs potential persons who are to respond to the collection of information that such persons are not required to respond to the collection of information unless it displays a currently valid OMB control number.

Agricultural Marketing Service

Title: Agritourism Directory.

OMB Control Number: 0581-New.

Summary of Collection: Under the Agricultural Marketing Act of 1946, as amended (7 U.S.C. 1621 et seq.), AMS is responsible for conducting research to enhance market access for small and medium sized farmers. The role of the Marketing Services Division (MSD) of AMS is to facilitate distribution of U.S. agricultural products. The division identifies marketing opportunities, provides analysis to help take advantage of those opportunities and develops and evaluates strategies including methods to diversify farming operations of direct from farm-to-customer enterprises.

Definitions are listed below for the following terms used by AMS for the purposes of the Agritourism Directory: Agritourism directory, a working farm, ranch, aquaculture and agroforestry.

An agritourism directory is a list of working farms, ranches, aquaculture and agroforestry operations that provide education and recreation opportunities, active-involvement experiences (e.g., farming activities, processing), as well as retailing and hospitality (e.g., accommodations, dining) facilities and services for the enjoyment of visitors that generate supplemental income, create and grow farm product markets i.e., for local foods, and build understanding of agriculture.

A working farm, ranch, aquaculture or agroforestry operation is defined as an area of land and buildings, or water (ponds, lakes, rivers, oceans), including within and around cities, that is currently being utilized to raise and grow domesticated animals, plants, trees, and freshwater and marine fish and shellfish, for food and beverages, including vegetables, fruits, herbs, meats, dairy products, oils, cereals, fish and shellfish, and products for direct sales to customers, and/or immediate consumption or enjoyment of customers, that are grown or processed there (e.g., Christmas trees, pinyon seeds, ginseng, wool, wine, beer, cheeses, nursery plants).

This information will be used to build an agritourism directory describing the characteristics of agritourism operations on working farms.

Need and Use of the Information: The data from this information collection will be used to build a web-based directory and describe the characteristics of agritourism enterprises in the United States. This directory will provide free advertisement to operators of agritourism enterprises and prospective customers as a service to the sector. There are no research objectives of this information collection. The agritourism directory will be utilized by individual customers seeking to learn more about farming operations and we anticipate will be utilized by various USDA agencies, State Departments of Agriculture, extension educators, industry stakeholders and trade associations.

Description of Respondents: Business or other for-profit; Farms.

Number of Respondents: 10,000.

Frequency of Responses: Reporting: Annually.

Total Burden Hours: 33.

Levi S. Harrell,
Departmental Information Collection Clearance Officer.

[FR Doc. 2021-10505 Filed 5-18-21; 8:45 am]

BILLING CODE 3410-02-P